DEPARTMENT OF THE INTERIOR

National Park Service

[NPS-WASO-NAGPRA-NPS0029125; PPWOCRADN0-PCU00RP14.R50000]

Notice of Inventory Completion: Arkansas Archeological Survey, Fayetteville, AR; Correction

AGENCY: National Park Service, Interior.

ACTION: Notice; correction.

SUMMARY: The Arkansas Archeological Survey has corrected an inventory of human remains published in a Notice of Inventory Completion in the Federal Register on February 24, 2017. This notice corrects the minimum number of individuals. Lineal descendants or representatives of any Indian Tribe or Native Hawaiian organization not identified in this notice that wish to request transfer of control of these human remains should submit a written request to the Arkansas Archeological Survey. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Arkansas Archeological Survey at the address in this notice by December 9, 2019.

ADDRESSES: Dr. George Sabo, Arkansas Archeological Survey, 2475 N Hatch Avenue, Fayetteville, AR 72704, telephone (479) 575-3556, email gsabo@uark.edu.

SUPPLEMENTARY INFORMATION: Notice is here given in accordance with the Native American Graves Protection and Repatriation Act (NAGPRA), 25 U.S.C. 3003, of the correction of an inventory of human remains under the control of the Arkansas Archeological Survey, Fayetteville, AR. The human remains were removed from Clark County, AR.

This notice is published as part of the National Park Service's administrative responsibilities under NAGPRA, 25 U.S.C. 3003(d)(3). The determinations in this notice are the sole responsibility of the museum, institution, or Federal agency that has control of the Native American human remains. The National Park Service is not responsible for the determinations in this notice.

This notice corrects the minimum number of individuals published in a Notice of Inventory Completion in the Federal Register (82 FR 11629-11631, February 24, 2017). Private individuals removed the human remains from Clark County in the 1930s and 1940s. These collections were acquired by the Joint Educational Consortium of Henderson State University and Ouachita Baptist University in 1977 and were transferred to the Arkansas Archeological Survey in 2017 to undergo the NAGPRA process. Transfer of control of the items in this correction notice has not occurred.

Correction

In the Federal Register (82 FR 11629, February 24, 2017), column 2, paragraph 7, sentence 1 is corrected by substituting the following sentence:

At an unknown date and between 1939-1940, human remains representing at minimum, two individuals were recovered from the East site (3CL21) in Clark County, Arkansas.

In the Federal Register (82 FR 11629, February 27, 2017), column 2, paragraph 7, sentence 4 is corrected by substituting the following sentence:

The one associated funerary object is a Smithport Plain jar.

In the Federal Register (82 FR 11629, February 24, 2017), column 2, paragraph 7, sentence 5 is corrected by substituting the following sentence:

Diagnostic artifacts found at the East site (3CL21) indicate that these human remains were probably buried during the Caddo tradition (A.D. 900-1650) or East Phase (A.D. 1100-1400).

In the Federal Register (82 FR 11631, February 24, 2017), column 2, paragraph 3, sentence 1 is corrected by substituting the following sentence:

Pursuant to 25 U.S.C. 3001(9), the human remains described in this notice represent the physical remains of 460 individuals of Native American ancestry.

In the Federal Register (82 FR 11631, February 24, 2017), column 2, paragraph 3, sentence 2 is corrected by substituting the following sentence:

Pursuant to 25 U.S.C. 3001 (3)(A), the 55 objects described in this notice are reasonably believed to have been placed with or near individual human remains at the time of death or later as part of the death rite or ceremony.

Additional Requestors and Disposition

Lineal descendants or representatives of any Indian Tribe or Native Hawaiian organization not identified in this notice that wish to request transfer of control of these human remains should submit a written request with information in support of the request to Dr. George Sabo, Arkansas Archeological Survey, 2475 N Hatch Avenue, Fayetteville, AR 72704, telephone (479) 575-3556, email gsabo@uark.edu, by December 9, 2019. After that date, if no additional requestors have come forward, transfer of control of the human remains to the Caddo Nation of Oklahoma may proceed.

The Arkansas Archeological Survey is responsible for notifying the Caddo Nation of Oklahoma that this notice has been published.

Dated: October 15, 2019.
Melanie O'Brien,
Manager, National NAGPRA Program.

[FR Doc. 2019-24398 Filed 11-7-19; 8:45 am]

BILLING CODE 4312-52-P